DEPARTMENT OF HEALTH AND HUMAN SERVICES

Centers for Disease Control and Prevention

[Docket No. CDC-2020-0041]

Advisory Council for the Elimination of Tuberculosis Meeting (ACET); Notice of Meeting and Request for Comment

AGENCY: Centers for Disease Control and Prevention (CDC), Department of Health and Human Services (HHS).

ACTION: Notice of meeting.

SUMMARY: In accordance with the Federal Advisory Committee Act, the CDC announces the following meeting of the Advisory Council for the Elimination of Tuberculosis Meeting (ACET). This meeting is open to the public, limited only by audio and web conference lines (100 audio and web conference lines are available) by accessing the following telephone number at 1-877-927-1433; the passcode is 12016435. The web conference access is https://adobeconnect.cdc.gov/r5p8l2tytpq/.

DATES: The meeting will be held on June 16, 2020, 10:00 a.m. to 3:30 p.m., EDT.

Written comments must be received on or before June 15, 2020.

ADDRESSES: You may submit comments, identified by Docket No. CDC-2020-0041 by any of the following methods:

• Federal eRulemaking Portal: https://www.regulations.gov. Follow the instructions for submitting comments.

• Mail: Margie Scott-Cseh, CDC, 1600 Clifton Road NE, MS US8-6, Atlanta, Georgia 30329-4027, Attn: ACET Meeting.

Instructions: All submissions received must include the Agency name and Docket Number. All relevant comments received in conformance with the https://www.regulations.gov suitability policy will be posted without change to https://www.regulations.gov, including any personal information provided. For access to the docket to read background documents or comments received, go to https://www.regulations.gov. Written comments received in advance of the meeting will be included in the official record of the meeting.

Meeting information: The teleconference access is 1-877-927-1433, and the passcode: 12016435. The web conference access is https://adobeconnect.cdc.gov/r5p8l2tytpq/.

FOR FURTHER INFORMATION CONTACT: Margie Scott-Cseh, Committee Management Specialist, CDC, 1600 Clifton Road, NE, Mailstop US8-6, Atlanta, Georgia 30329-4027; Telephone: 404-639-8317; Email: zkr7@cdc.gov.

SUPPLEMENTARY INFORMATION:

Purpose: This Council advises and makes recommendations to the Secretary of Health and Human Services, the Assistant Secretary for Health, and the Director, CDC, regarding the elimination of tuberculosis (TB). Specifically, the Council makes recommendations regarding policies, strategies, objectives, and priorities; addresses the development and application of new technologies; and reviews the extent to which progress has been made toward eliminating tuberculosis.

Public Participation

Procedure for Public Comment: Time will be available for public comment. Persons who desire to make an oral statement, may request it at the time of the public comment period on June 16, 2020 at 3:20 p.m., EDT.

Written Public Comment: The public is welcome to submit written comments in advance of the meeting. Comments should be submitted on or before June 15, 2020. All requests must contain the name, and organizational affiliation of the speaker, as well as the topic being addressed. Written comments received in advance of the meeting will be included in the official record of the meeting. Comments received, including attachments and other supporting materials, are part of the public record and are subject to public disclosure. Comments will be posted on https://www.regulations.gov. Therefore, do not include any information in your comment or supporting materials that you consider confidential or inappropriate for public disclosure. If you include your name, contact information, or other information that identifies you in the body of your comments, that information will be on public display. CDC will review all submissions and may choose to redact, or withhold, submissions containing private or proprietary information such as Social Security numbers, medical information, inappropriate language, or duplicate/near duplicate examples of a mass-mail campaign. CDC will carefully consider all comments submitted to the docket.

Matters To Be Considered: The agenda will include discussions on (1) Updates from Global Tuberculosis Branch; (2) Updates from NCHHSTP Epidemiologic and Economic Modeling Agreements (NEEMA) Consortium; (3) A tool to assist TB Programs with integration of Whole Genome Sequencing data; (4) Ongoing challenges with TB drugs and diagnostics supplies: Results from national survey; and (5) Update from ACET workgroups. Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Dated: April 24, 2020.
Kalwant Smagh,
Director, Strategic Business Initiatives Unit, Office of the Chief Operating Officer, Centers for Disease Control and Prevention.

[FR Doc. 2020-09134 Filed 4-29-20; 8:45 am]

BILLING CODE 4163-18-P